DEPARTMENT OF HEALTH AND HUMAN SERVICES

National Institutes of Health

Eunice Kennedy Shriver National Institute of Child Health & Human Development; Amended Notice of Meeting

Notice is hereby given of a change in the meeting of the National Institute of Child Health and Human Development Special Emphasis Panel, July 16, 2010, 10 a.m. to July 16, 2010, 12 p.m., National Institutes of Health, 6100 Executive Boulevard, Rockville, MD 20852 which was published in the Federal Register on June 28, 2010, 75 FR 36662.

The date of the meeting has been changed from July 16, 2010 to August 9, 2010. The meeting is closed to the public.

Dated: July 12, 2010.
Jennifer Spaeth,
Director, Office of Federal Advisory Committee Policy.

[FR Doc. 2010-17567 Filed 7-16-10; 8:45 am]

BILLING CODE 4140-01-P